OVERSEAS PRIVATE INVESTMENT CORPORATION

Sunshine Act Meeting Notice

TIME AND DATE: Thursday, September 15, 2016, 2 p.m. (OPEN Portion); 2:15 p.m. (CLOSED Portion).

PLACE: Offices of the Corporation, Twelfth Floor Board Room, 1100 New York Avenue NW., Washington, DC.

STATUS: Meeting OPEN to the Public from 2 p.m. to 2:15 p.m. Closed portion will commence at 2:15 p.m. (approx.)

MATTERS TO BE CONSIDERED:

1. President's Report

2. Tribute—Stefan Selig

3. Minutes of the Open Session of the June 9, 2016 Board of Directors Meeting

FURTHER MATTERS TO BE CONSIDERED (Closed to the Public 2:15 p.m.):

1. Finance Project—India

2. Finance Project—India

3. Finance Project—Senegal

4. Insurance Project—Senegal

5. Finance Project—South Africa

6. Finance Project—Jamaica

7. Finance Project—Honduras

8. Minutes of the Closed Session of the June 9, 2016 Board of Directors Meeting

9. Reports

10. Pending Projects

CONTACT PERSON FOR MORE INFORMATION: Information on the meeting may be obtained from Catherine F. I. Andrade at (202) 336-8768, or via email at Catherine.Andrade@opic.gov.

Dated: August 23, 2016.
Catherine F. I. Andrade,
Corporate Secretary, Overseas Private Investment Corporation.

[FR Doc. 2016-20585 Filed 8-24-16; 11:15 am]

BILLING CODE 3210-01-P